DEPARTMENT OF HEALTH AND HUMAN SERVICES

Centers for Disease Control and Prevention

National On-line Resource Center for Violence Against Women

Announcement Type: New.

Funding Opportunity Number: 04066.

Catalog of Federal Domestic Assistance Number: 93.136.

Key Dates:

Letter of Intent Deadline: January 23, 2004.

Application Deadline: March 8, 2004.

I. Funding Opportunity Description

Authority: This program is authorized under section 317(k) of the Public Health Service Act, (42 U.S.C. 247b(k)).

Purpose: The purpose of this program is to support an on-line, publicly accessible collection of resources and discussion forums on violence against women (VAW) within an organization that currently manages an on-line collection. This program will utilize current technology to build the capacity of local, state, national and tribal agencies and organizations to develop, implement and evaluate VAW prevention initiatives and intervention programs.

For the purposes of this program announcement the following definitions apply:

Intervention: services, policies and actions provided after domestic violence or sexual violence has occurred and may have the advantageous effect of preventing a re-occurrence of violence.

Prevention: population-based and/or environmental/system level services, policies and actions that prevent violence against women from initially occurring. Prevention efforts work to modify and/or entirely eliminate the event, conditions, situations, or exposure to influences (risk factors) that result in the initiation of violence against women and associated injuries, disabilities, and deaths. Additionally, prevention efforts seek to identify and enhance protective factors that may prevent violence against women not only in at-risk populations but also in the community at large.

Violence Against Women (VAW): Minimally, violence against women refers to physical violence, sexual violence, threats of physical and/or sexual violence, stalking, and psychological/emotional abuse against women by any perpetrator (e.g. spouse, acquaintance, stranger, etc.).

The program requires three core components:

1. Provide a searchable, on-line, publicly accessible, full-text collection of resources that address VAW.

2. Provide on-line, publicly accessible discussion forum(s) for participants to exchange ideas, share resources, discuss emerging issues and network in order to support effective local, state, national and tribal prevention initiatives and intervention programs.

3. Compile, translate and disseminate VAW research and evaluation findings.

This program addresses the “Healthy People 2010” focus area of Injury and Violence Prevention.

Measurable outcomes of the program will be in alignment with the following performance goal for the National Center for Injury Prevention and Control (NCIPC):

Increase the capacity of injury prevention and control programs to address the prevention of injuries and violence.

Activities

Awardee activities for this program are as follows:

a. Collaborate with CDC on the implementation and evaluation of the program, which includes establishing mutually agreed upon goals and objectives and participating in strategic planning.

b. Provide a searchable, on-line, publicly accessible, full-text collection of resources that address VAW.

The on-line resource collection should provide access to information and materials for developing and maintaining local, state, national and tribal VAW prevention initiatives and intervention programs (e.g. education and training curriculums, research on risk and protective factors for violence against women perpetration and victimization, law and policy concerning VAW, summary and translation of current research and evaluation findings and community mobilization strategies). This cooperative agreement also allows for the development of original materials. The collection should be searchable and resources should be available in full-text. Resources should include a focus on traditionally underserved populations, violence as a public health problem, prevention and public education strategies and research and evaluation summary and translation. Materials and other resources in support of domestic violence and sexual assault awareness month activities should also be made available. Resources should be equally balanced between domestic violence and sexual assault as well as prevention and intervention topics.

c. Provide on-line, publicly accessible discussion forums for participants to exchange ideas, share resources, discuss emerging issues and network in order to support effective local, state, national and tribal VAW prevention initiatives and intervention programs.

The discussion forums should strengthen communication between local, state, national and tribal agencies and organizations (e.g., state domestic violence and sexual assault coalitions, local domestic violence and sexual assault programs, public health agencies and organizations and those working in underserved communities) as well as interested individuals to support effective prevention initiatives and intervention programs. Discussion forums should be equally balanced between domestic violence and sexual assault, and prevention and intervention topics.

d. Compile, translate and disseminate VAW research and evaluation findings on a broad range of VAW related topics.

The program should make current research and evaluation findings available and accessible to practitioners by providing summaries and translation of findings as well as implications for practice. This should be done in consultation with a researcher(s) that has expertise in VAW.

e. Provide a full-time manager and other staff as appropriate.

f. Establish and maintain collaborative relationships with national, state, local and tribal domestic violence and sexual violence organizations, public health agencies and organizations, the recipient of the national resource center on sexual violence prevention cooperative agreement, and other CDC grantees and partners.

g. Actively market the program to a broad range of constituents, including but not limited to local, state, national and tribal domestic violence and sexual violence agencies and organizations, public health agencies and organizations, and those working in underserved communities.

h. Establish and maintain an advisory board with professional experience and expertise in the areas of domestic violence and sexual violence. Board members should: represent multiple disciplines, including public health; represent a balance between prevention and intervention expertise; and be culturally and racially/ethnically diverse.

i. Provide a detailed evaluation plan that will document program process, effectiveness, and outcomes. This plan should identify potential program data sources for evaluation, document staff availability, expertise and capacity to perform the evaluation activities. The plan should also include how results or information will be used to make programmatic and/or operational decisions.

j. Participate in regular conference calls with CDC program staff and participate in CDC grantee meetings as requested by CDC.

k. Submit required reports to CDC as scheduled.

In a cooperative agreement, CDC staff is substantially involved in the program activities, above and beyond routine grant monitoring.

CDC Activities for this program are as follows:

a. Provide technical assistance and consultation in the implementation and evaluation of the program including participation in strategic planning and advisory committee meetings.

b. Consult with program staff in the development of discussion forums including topics, facilitators and content.

c. Participate in on-line discussion forums.

d. Contribute to the identification and development of Web site content.

e. Review of the compilation and translation of VAW research and evaluation findings.

f. Collaborate with program staff in identifying up-to-date scientific and programmatic information around VAW prevention activities, including but not limited to CDC funded projects, extramural research projects, and initiatives with other agencies around VAW prevention and intervention issues.

g. Arrange for information sharing among the program and other relevant CDC grantees and partners.

II. Award Information

Type of Award: Cooperative Agreement. CDC involvement in this program is listed in the Activities Section above.

Fiscal Year Funds: 2004.

Approximate Total Funding: $770,000.

Approximate Number of Awards: one.

Approximate Average Award: $770,000.

Floor of Award Range: None.

Ceiling of Award Range: $770,000.

If you request a funding amount greater than the ceiling of the award range, your application will not be entered into the review process. You will be notified that your application did not meet the submission requirements.

Anticipated Award Date: September 1, 2004.

Budget Period Length: 12.

Project Period Length: five years.

Throughout the project period, CDC's commitment to continuation of awards will be conditioned on the availability of funds, evidence of satisfactory progress by the recipient (as documented in required reports), and the determination that continued funding is in the best interest of the Federal Government.

III. Eligibility Information

Eligible applicants: Applications may be submitted by public and private nonprofit organizations and faith- and community-based organizations that currently have a searchable, on-line, full-text collection of resources that address VAW as well as existing technological infrastructure to support the growth of the collection and web-based discussion forums.

Because these funds are not to be used for the development of new infrastructure the only eligible applicants are those with the existing capacity to accomplish the goals set forth in the “Purpose” section of this announcement.

Other Eligibility Requirements: If your application is incomplete or non-responsive to the requirements listed below, it will not be entered into the review process. You will be notified that your application did not meet the submission requirements.

Cost Sharing or Matching: Matching funds are not required for this program.

Note: Title 2 of the United States Code section 1611 states that an organization described in section 501(c)(4) of the Internal Revenue Code that engages in lobbying activities is not eligible to receive Federal funds constituting an award, grant, or loan.

IV. Application and Submission Information

Letter of Intent (LOI):

CDC requests that you send a LOI if you intend to apply for this program. Your LOI will be used to gauge the level of interest in this program, and to allow CDC to plan the application review. Your LOI must be written in the following format:

• Maximum number of pages: two.

• Font size: 12-point unreduced.

• Paper size: 8.5 by 11 inches.

• Single spaced.

• Page margin size: one inch.

• Printed only on one side of page.

• Written in English, avoid jargon.

Your LOI must contain the following information:

• Number and title of this Program Announcement (PA # 04066).

• A brief description of your current on-line resource collection.

LOI Deadline Date: January 23, 2004.

LOI Submission Address: Submit your LOI by express mail, delivery service, fax or E-mail to: Karen Lang, Project Officer, 2939 Flowers Road South, Atlanta, GA 30341, Telephone: 770-488-1118, Fax: 770-488-4349, klang@cdc.gov.

How to Obtain Application Forms and Instructions: To apply for this funding opportunity use application form PHS 5161. Forms are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

Content and Form of Application Submission

Application: This program announcement is the definitive guide on application format, content, and deadlines. It supersedes information provided in the application instructions. If there are discrepancies between the application form instructions and the program announcement, adhere to the guidance in the program announcement.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Content and Form of Submission

Application: You must submit a signed original, two copies, and a labeled disk or CD-Rom of your application forms.

You must include a project narrative with your application forms. Your narrative must be submitted in the following format:

• Maximum number of pages: 25. If your narrative exceeds the page limit, only the first pages which are within the page limit will be reviewed.

• Font size: 12 point unreduced.

• Double spaced.

• Paper size: 8.5 by 11 inches.

• Page margin size: one inch.

• Printed only on one side of page.

• Held together only by rubber bands or metal clips; not bound in any other way.

Your narrative should address activities to be conducted over the entire project period, and must include the following items in the order listed:

• Abstract (one-page summary of the application, does not count towards page limit).

• Applicant's relevant experience.

• Plan to implement the program.

• Applicant's capacity and staffing.

• Collaboration.

• Marketing plan.

• Measures of effectiveness.

• Proposed budget and justification (does not count towards page limit).

Funding restrictions, which must be taken into account while writing your budget are as follows: cooperative agreement funds for this project cannot be used for construction, renovation, the lease of passenger vehicles, the development of major software applications, or supplanting current applicant expenditures.

If you are requesting indirect costs in your budget, you must include a copy of your indirect cost rate agreement. If your indirect cost rate is a provisional rate, the agreement must be less than 12 months of age.

Guidance for completing your budget can be found on the CDC Web site, at the following Internet address: http://www.cdc.gov/od/pgo/funding/budgetguide.htm.

Additional information may be included in the application appendices. The appendices will not be counted toward the narrative page limit. This additional information includes:

• Curriculum vitaes

• Job descriptions

• Resumes

• Organizational charts

• Letters of support, etc.

Submission Date, Time, and Address

Application Deadline Date: March 8, 2004.

Application Submission Address: Submit your application by mail or express delivery service to: Technical Information Management—PA# 04066, CDC Procurement and Grants Office, 2920 Brandywine Road, Atlanta, GA 30341.

Applications may not be submitted by fax or e-mail.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) carrier error, when the carrier accepted the package with a guarantee for delivery by the closing date and time, or (2) significant weather delays or natural disasters, you will be given the opportunity to submit documentation of the carrier's guarantee. If the documentation verifies a carrier problem, CDC will consider the application as having been received by the deadline.

This program announcement is the definitive guide on application format, content, and deadlines. It supersedes information provided in the application instructions. If your application does not meet the deadline above, it will not be eligible for review, and will be discarded. You will be notified that you did not meet the submission requirements.

If you have a question about the receipt of your application, first contact your courier. CDC will not notify you by mail upon receipt of your application, but if you still have a question, contact the PGO-TIM staff at: 770-488-2700. Before calling, please wait two to three days after the application deadline. This will allow time for applications to be processed and logged.

Intergovernmental Review of Applications: Executive Order 12372 does not apply to this program.

V. Application Review Information

Review Criteria: You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Applicant's Relevant Experience (30 points)

a. Does the applicant have experience in managing a comprehensive, searchable, on-line, publicly accessible, full-text collection of resources that address VAW?

b. Does the applicant have experience in addressing prevention and intervention of both domestic violence and sexual assault (including sexual assault perpetrated by someone other than an intimate partner)?

c. Does the applicant have experience in managing on-line discussion forums that address VAW prevention and intervention?

d. Does the applicant have experience in providing summary and translation of current research and evaluation findings for VAW practitioners?

2. Plan to Implement the Resource Collection (25 points)

a. Does the applicant provide a plan that responds to all three core areas outlined in “Purpose” section of this announcement?

b. Does the applicant provide clearly stated goals and corresponding objectives that are time-phased, specific, attainable, and measurable?

c. Does the applicant provide a 5-year vision for how the program will be flexible and adaptable in incorporating change and growth of both technology as well as priorities and context of the domestic violence, sexual assault and public health fields?

d. Does the applicant articulate how this program provides a resource that is unique and not duplicative of other programs/resources?

e. Does applicant provide a clear description of the role and involvement of the advisory board and do they identify participants representing a broad range of disciplines that work in the area of VAW, including public health?

f. Does the applicant provide a specific and achievable plan to market the resource collection to a diverse range of constituents, including public health?

g. Does applicant have a plan to recruit and manage a diverse range of participants in the on-line discussion forums (including a plan to address potential inappropriate postings)?

3. Applicant's Capacity and Staffing (20 points)

a. Does the applicant demonstrate an existing capacity and infrastructure (including a comprehensive, searchable, on-line, publicly accessible, full-text collection of resources that address VAW, and has institutional experience, adequate server space and other information technology) to manage the program and carry out the required activities in the cooperative agreements?

b. Does the applicant's description of the responsibilities of individual staff members, including the level of effort and allocation of time, demonstrate an ability to effectively manage and implement the activities of this cooperative agreement?

c. Is the project staff clearly described and does each staff member have the appropriate skills and expertise for their assigned staff position? Has the applicant included an organizational chart and curriculum vitae, or position description for each proposed staff member?

4. Collaboration (15 points)

a. Does the applicant demonstrate a willingness to collaborate with CDC in the design, implementation and evaluation of the program?

b. Does the applicant demonstrate a willingness to collaborate with other relevant CDC grantees and partners, including the recipient of the national resource center on sexual violence prevention?

c. Does the applicant demonstrate a successful history of collaborating effectively with other organizations at the national, state, local and tribal levels? Does the applicant include letters of support and/or memoranda of agreement from national and state VAW organizations, research and/or academic experts/institutions, and other relevant agencies and organizations, including public health agencies and organizations?

5. Evaluation (10 points)

a. Does the applicant provide a detailed description of the methods to be used to evaluate program effectiveness, including what will be evaluated, data to be collected and analyzed, who will perform the evaluation, the time frame and how the data will be used for program enhancement?

b. Does the applicant's evaluation plan include a component for assessing consumer satisfaction as well as periodic assessment of emerging issues and information needs in the VAW and public health fields?

c. Does the applicant document staff availability, expertise, and capacity to evaluate program activities and effectiveness?

6. Measures of Effectiveness (not scored)

Does the applicant provide objective/quantifiable measures regarding the resource centers intended outcomes that will demonstrate the accomplishment of the various identified objectives of the cooperative agreement?

7. Budget (not scored)

Does the applicant provide a detailed budget with complete line-item justification of all proposed costs consistent with the stated activities in the program announcement? Details must include a breakdown in the categories of personnel (with time allocations for each), staff travel, communications and postage, equipment, supplies, and any other costs. The budget projection must also include a narrative justification for all requested costs. Any sources of additional funding beyond the amount stipulated in this cooperative agreement should be indicated, including donated time or services. For each expense category, the budget should indicate CDC share, the applicant share and any other support. These funds should not be used to supplant existing efforts.

Review and Selection Process: An objective review panel will evaluate your application according to the criteria listed above.

VI. Award Administration Information

Award Notices: Successful applicants will receive a Notice of Grant Award (NGA) from the CDC Procurement and Grants Office. The NGA shall be the only binding, authorizing document between the recipient and CDC. The NGA will be signed by an authorized Grants Management Officer, and mailed to the recipient fiscal officer identified in the application.

Administrative and National Policy Requirements: 45 CFR parts 74 and 92.

For more information on the Code of Federal Regulations, see the National Archives and Records Administration at the following Internet address: http://www.access.gpo.gov/nara/cfr/cfr-table-search.html.

The following additional requirements apply to this project:

• AR-10 Smoke-Free Workplace Requirements

• AR-11 Healthy People 2010

• AR-12 Lobbying Restrictions

• AR-13 Prohibition on Use of CDC Funds for Certain Gun Control Activities

• AR-15 Proof of Non-Profit Status

Additional information on these requirements can be found on the CDC Web site at the following Internet address: http://www.cdc.gov/od/pgo/funding/ARs.htm.

Reporting Requirements: You must provide CDC with an original, plus two copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of Effectiveness.

2. Financial status report, no more than 90 days after the end of the budget period.

3. Final financial and performance reports, no more than 90 days after the end of the project period.

VII. Agency Contacts

For general questions about this announcement, contact: Technical Information Management Section, CDC Procurement and Grants Office, 2920 Brandywine Road, Atlanta, GA 30341, Telephone: 770-488-2700.

For program technical assistance, contact: Karen Lang, Project Officer, 4770 Buford Hwy., NE., MS-K60, Atlanta, GA 30341-3724, Telephone: 770-488-1118, E-mail: klang@cdc.gov.

For budget assistance, contact: Angie Nation, Grants Management Specialist, CDC Procurement and Grants Office, 2920 Brandywine Road, Suite 3000, Atlanta, GA 30341, Telephone: (770) 488-2719, E-mail: aen4@cdc.gov.

Dated: December 31, 2003.
Edward Schultz,
Acting Director, Procurement and Grants Office Centers for Disease Control and Prevention.

[FR Doc. 04-356 Filed 1-7-04; 8:45 am]

BILLING CODE 4163-18-P